DEPARTMENT OF THE INTERIOR

Fish and Wildlife Service

National Park Service

[FWS-R6-R-2011-N211; FXRS1265066CCP0S2-123-FF06R06000]

Detailed Planning To Consider Additional Land Protection on the Missouri River From Fort Randall Dam to Sioux City, IA; National Environmental Policy Act Documents

AGENCY: Fish and Wildlife Service, National Park Service, Interior.

ACTION: Notice of intent; request for comments.

SUMMARY: This notice advises the public that the U.S. Fish and Wildlife Service (FWS) and the National Park Service (NPS), U.S. Department of the Interior, as lead agencies, intend to gather information necessary to complete detailed planning and prepare associated documents under the National Environmental Policy Act (NEPA) and its implementing regulations, in order to consider additional land protection on the Missouri River from Fort Randall Dam to Sioux City, Iowa. The FWS and NPS are furnishing this notice in compliance with the National Wildlife Refuge System Administration Act of 1966, as amended, and the National Park Service Organic Act of 1916, as amended, to advise other agencies, Tribal governments, and the public of our intentions and to obtain suggestions and information on the scope of issues to include in the environmental documents. Special mailings, newspaper articles, and other media announcements will inform people of the opportunities for input throughout the planning process.

DATES: We are soliciting written comments and will hold public scoping meetings in February 2012. Information on meeting dates and times will be available at http://parkplanning.nps.gov/niob-ponca when that information is available.

ADDRESSES: Send your comments or requests for more information by any of the following methods.

Email: niobrara_ponca@fws.gov.

U.S. Mail: Nick Kaczor, USFWS, Division of Refuge Planning, P.O. Box 25486, DFC, Denver, CO 80225.

FOR FURTHER INFORMATION CONTACT: Nick Kaczor, Planning Team Leader, Division of Refuge Planning, USFWS, P.O. Box 25486, DFC, Denver, CO 80225.

SUPPLEMENTARY INFORMATION:

Introduction

With this notice, the FWS and NPS, as lead agencies, propose to complete detailed planning on a joint comprehensive conservation strategy and land protection plan (LPP) for the Niobrara Confluence and Ponca Bluffs areas of the Missouri River in southeast South Dakota and northeast Nebraska aimed to improve floodplain management. The LPP would develop a proposal for a comprehensive conservation strategy, including a plan aimed at enhancing wildlife habitat, increasing recreational opportunities, and improving floodplain management within the study area, by working with willing landowners to strategically protect land through acquisition and conservation easements.

The Niobrara Confluence segment between Fort Randall Dam and Lewis and Clark Lake is one of the last portions of the middle Missouri River that remain un-channelized, relatively free-flowing, and undeveloped. This area of the Missouri River's main channel in the old, wider river valley contains important habitat for at least 60 native and 26 sport fish. In addition, the riparian woodlands and island complexes are important for approximately 25 year-round bird species and 115 species of migratory birds, including piping plovers, least terns, and bald eagles.

The Ponca Bluffs segment between Gavins Point Dam and Sioux City is a diverse, relatively unaltered, riverine/floodplain ecosystem characterized by a main channel, braided channels, wooded riparian corridor, pools, chutes, sloughs, islands, sandbars, backwater areas, wetlands, natural floodplain and upland forest communities, pastureland, and croplands. This area also supports a wide variety of wildlife and fisheries resources similar to the Niobrara Confluence segment.

The National Wildlife Refuge System Improvement Act of 1997 outlines six priority public uses (hunting, fishing, wildlife observation, wildlife photography, and environmental education and interpretation) that are to be facilitated on national wildlife refuges, where compatible.

The river reaches are components of the National Wild and Scenic River System as designated by Congress in 1978 and 1991 under the Wild and Scenic River Act (Pub. L. 90-542, as amended). The National Park Service is the river administering agency and is tasked to protect and enhance the outstandingly remarkable recreational, fish and wildlife, and scenic or similar values. The Wild and Scenic Rivers Act specifies that these river reaches shall be preserved in free-flowing condition and that their Outstandingly Remarkable Values shall be protected for the benefit and enjoyment of present and future generations.

Public feedback into the land protection planning process is essential to ensure that the FWS and NPS include society's input into the proposed project. FWS and NPS will request public review and comment throughout the planning process.

Background

The Missouri River basin encompasses 530,000 square miles—approximately one-sixth of the continental United States. The main stem, stretching from Three Forks, Montana, to St. Louis, Missouri, is the longest river in the United States, at more than 2,300 miles long. Historically, the Missouri River was a dynamic ecosystem, characterized by a changing interplay of open free-flowing, braided channel, sandbar, prairie, wetland, and forest habitats. Although manmade structures and activities have altered many of these natural processes, important habitats still remain, for a rich diversity of plants and animals. The dynamic nature of the Missouri River means that habitats change on a daily, seasonal, annual, and long-term basis. Erosive forces constantly transport sediment down the river, creating and modifying habitat and removing terrestrial vegetation from some areas while creating suitable conditions for new plants to grow in other areas. Seasonal river flow patterns flood river-bottom wetlands and maintain chutes, backwaters, and lakes in the floodplain that provide important wildlife breeding and foraging habitat. The combination of open water, floodplain wetlands, and river vegetation is particularly important for the large number of migratory birds that use the Missouri River during spring and fall migrations.

Despite significant alterations of impoundment and stabilization, portions of the Missouri River have shown resiliency, exhibiting numerous historical characteristics witnessed by Lewis and Clark during their explorations in the early 1800s. The FWS and NPS will work with local communities and willing landowners to conserve significant stretches of the Missouri River. The opportunity to preserve and potentially improve important processes and habitats for fish and wildlife will provide benefits to visitors, neighbors, and local communities of these areas now and into the future. The project proposal is designed to improve conditions within the channel migration zone, retaining those habitat characteristics important to federally managed species such as pallid sturgeon, least tern, and piping plover, while potentially mitigating flooding impacts in the future. In addition, the project proposal is also designed to enhance recreation opportunities such as boating, fishing, hunting, and camping, while increasing scenic values along the river and protecting cultural resources.

Public Availability of Comments

Before including your address, phone number, email address, or other personal identifying information in your comment, you should be aware that your entire comment, including your personal identifying information, may be made publicly available at any time. While you can ask us in your comment to withhold your personal identifying information from public review, we cannot guarantee that we will be able to do so.

Authorities

The FWS and NPS are furnishing this notice in compliance with the National Wildlife Refuge System Administration Act of 1966 (16 U.S.C. 668dd-668ee) (Administration Act), as amended by the National Wildlife Refuge System Improvement Act of 1997; the National Park Service Organic Act of 1916, as amended; and the National Environmental Policy Act (42 U.S.C. 4321 et seq.) and its implementing regulations.

Dated: December 2, 2011.
Matt Hogan,
Acting, Deputy Regional Director, Mountain-Prairie Region, U.S. Fish and Wildlife Service.
Dated: December 20, 2011.
Michael T. Reynolds,
Regional Director, NPS, Midwest Region.

[FR Doc. 2012-3491 Filed 2-14-12; 8:45 am]

BILLING CODE 4310-55-P; 4312-51-P